CORPORATION FOR NATIONAL AND COMMUNITY SERVICE

Proposed Information Collection; Comment Request

AGENCY: Corporation for National and Community Service.

ACTION: Notice.

SUMMARY: The Corporation for National and Community Service (the Corporation), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its Child Care application forms. These forms are submitted by members of AmeriCorps and by the child care providers identified by the member for the purpose of applying for, and receiving payment for, the care of children during the day while the member is in service. Completion of this information is required to be approved and required to receive payment for invoices.

Copies of the information collection request can be obtained by contacting the office listed in the addresses section of this notice.

DATES: Written comments must be submitted to the individual and office listed in the ADDRESSES section by April 3, 2012.

ADDRESSES: You may submit comments, identified by the title of the information collection activity, by any of the following methods:

(1) By mail sent to: Corporation for National and Community Service, Jim Feaster, Room 9111, 1201 New York Avenue NW., Washington, DC 20525.

(2) By hand delivery or by courier to the Corporation's mailroom at Room 8100 at the mail address given in paragraph (1) above, between 9 a.m. and 4 p.m. Eastern Time, Monday through Friday, except Federal holidays.

(3) By fax to: (202) 606-3475 Jim Feaster, Management Analyst.

(4) Electronically through jfeaster@cns.gov or www.regulations.gov. Individuals who use a telecommunications device for the deaf (TTY-TDD) may call 1-(800) 833-3722 between 8 a.m. and 8 p.m. Eastern Time, Monday through Friday.

FOR FURTHER INFORMATION CONTACT: Jim Feaster, 202-606-6862 jfeaster@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The information is provided by the AmeriCorps member and by the child care provider. The information is collected by GAP Solutions, Inc. 12054 North Shore Drive, Reston, VA 20190 and is not currently collected electronically. This is a new information request.

Current Action

The information collected will be used to analyze applications to participate in the AmeriCorps child care subsidy program submitted by AmeriCorps members and child care providers. The information is used to determine eligibility for this benefit. The eligibility requirements used are those used by the state in which the care is provided in accordance with the Child Care Development and Block Grant program administered by the Department of Health and Human Services.

Type of Review: New.

Agency: Corporation for National and Community Service.

Title: Child Care Application.

OMB Number: TBD.

Agency Number: None.

Affected Public: AmeriCorps members and child care providers for AmeriCorps members.

Total Respondents: 750 members, 1,500 child care providers.

Frequency: Once a year.

Average Time per Response: Averages 30 minutes.

Estimated Total Burden Hours: 1,125 hours.

Total Burden Cost (capital/startup): None.

Total Burden Cost (operating/maintenance): None.

Comments submitted in response to this notice will be summarized and/or included in the request for Office of Management and Budget approval of the information collection request; they will also become a matter of public record.

Dated: January 30, 2011.
Idara Nickelson,
Chief of Program Operations.

[FR Doc. 2012-2368 Filed 2-2-12; 8:45 am]

BILLING CODE 6050-$$-P